DEPARTMENT OF HEALTH AND HUMAN SERVICES

Substance Abuse and Mental Health Services Administration

Advisory Committee for Women's Services; Notice of Meeting

Pursuant to Public Law 92-463, notice is hereby given of a meeting of the Substance Abuse and Mental Health Services Administration (SAMHSA) Advisory Committee for Women's Services in September 2004.

The open meeting of the Advisory Committee for Women's Services will include discussion around the activities of the Substance Abuse and Mental Health Services Administration involving Access to Recovery, criminal justice, co-occurring disorders, and an update on women's issues as they relate to the Administrator's matrix, and current administrative and program developments.

Public attendance and public comments are welcome. Please communicate with the individual listed as contact to make arrangements to comment or to request special accommodations for persons with disabilities.

Substantive program information, a summary of the meeting, and a roster of committee members may be obtained either by accessing the SAMHSA Council Web site, http://www.samhsa.gov/council/council or by communicating with the contact whose name and telephone number is listed below. The transcript for the open session will also be available on the SAMHSA Council Web site.

Committee Name: Substance Abuse and Mental Health Services Administration Advisory Committee for Women's Services.

Meeting Date and Time: Open—Monday, September 27, 2004; 9 a.m.-5 p.m. Open—Tuesday, September 28, 2004; 9 a.m.-1:30 p.m.

Place: Doubletree Hotel, 1750 Rockville Pike, Rockville, Maryland 20852, telephone (301) 468-1100.

Contact: Carol D. Watkins, Executive Secretary, 1 Choke Cherry Road, Room 8-1002, Gaithersburg, Maryland 20857, telephone: (240) 276-2254: Fax (240) 276-2252, e-mail: carol.watkin2@samhsa.hhs.gov.

Dated: September 13, 2004.
Toian Vaughn,
Committee Management Officer, Substance Abuse and Mental Health Services Administration.

[FR Doc. 04-20960 Filed 9-16-04; 8:45 am]

BILLING CODE 4162-20-P